DEPARTMENT OF COMMERCE

National Oceanic and Atmospheric Administration

[I.D. 081105D]

North Pacific Fishery Management Council; Public Meeting

AGENCY: National Marine Fisheries Service (NMFS), National Oceanic and Atmospheric Administration (NOAA), Commerce.

ACTION: Notification of public meeting.

SUMMARY: The Council/BOF Interim Joint Protocol Committee will meet on August 30, 2005, in Anchorage, AK.

DATES: August 30, 2005, 10:30 am to 5:30 pm.

ADDRESSES: Hawthorn Suites, Ltd, 1110 West 8th Avenue, Anchorage, AK 99501

Council address: North Pacific Fishery Management Council, 605 W. 4th Ave., Suite 306, Anchorage, AK 99501-2252.

FOR FURTHER INFORMATION CONTACT: Council staff, Phone: 907-271-2809.

SUPPLEMENTARY INFORMATION:

Agenda

(1) Approval of the previous meetings minutes,

(2) Review of the State of Alaska's proposed pollock trawl fishery in the Jude Island area, and

(3) Committee discussion and recommendations for Council and Board of Fisheries action.

Special Accommodations

These meetings are physically accessible to people with disabilities. Requests for sign language interpretation or other auxiliary aids should be directed to Gail Bendixen at 907-271-2809 at least 7 working days prior to the meeting date.

Dated: August 15, 2005.
Alan D. Risenhoover,
Acting Director, Office of Sustainable Fisheries, National Marine Fisheries Service.

[FR Doc. E5-4513 Filed 8-17-05; 8:45 am]

BILLING CODE 3510-22-S